DEPARTMENT OF THE INTERIOR

Fish and Wildlife Service

Preparation of an Environmental Impact Statement for Issuance of an Incidental Take Permit Associated With a Habitat Conservation Plan (HCP) for the Federally Endangered California Condor

AGENCY: Fish and Wildlife Service, Interior.

ACTION: Notice of intent.

SUMMARY: Pursuant to the National Environmental Policy Act (NEPA), the U.S. Fish and Wildlife Service (Service) advises the public that we intend to gather information necessary to prepare an Environmental Impact Statement (EIS) on the proposed habitat conservation plan (HCP) for the federally endangered California condor (Gymnogyps californianus) (Tejon Ranch Condor HCP). The proposed Tejon Ranch Condor HCP is being prepared under section 10(a)(1)(B) of the Endangered Species Act, as amended. The Tejon Ranch Corporation (Tejon Ranchcorp), located in Kern and Los Angeles Counties, California, intends to request a permit for the incidental take of the endangered California condor. The permit is needed to authorize the incidental take of this species as a result of implementing activities covered under the proposed HCP.

We provide this notice to: (1) Describe the proposed action and possible alternatives; (2) advise other Federal and State agencies, affected Tribes, and the public of our intent to prepare an EIS; (3) announce the initiation of a 30-day public scoping period; and (4) obtain suggestions and information on the scope of issues and alternatives to be included in the EIS.

DATES: Public meetings will be held on: Tuesday, July 13, 2004, from 3 p.m. to 5 p.m. and 7 p.m. to 9 p.m. Written comments should be received on or before July 26, 2004.

ADDRESSES: The public meetings will be held at Cuddy Hall, 335 Lakewood Place, Frazier Park, CA. Information, written comments, or questions related to the preparation of the EIS and the NEPA process should be submitted to Rick Farris, U.S. Fish and Wildlife Service, Ventura Fish and Wildlife Office, 2493 Portola Road, Suite B, Ventura, California 93003; fw1condorHCP@r1.fws.gov; or fax (805) 644-1766.

FOR FURTHER INFORMATION CONTACT: Rick Farris at the above Ventura address, or at (805) 644-1766.

SUPPLEMENTARY INFORMATION:

Reasonable Accommodation

Persons needing reasonable accommodations in order to attend and participate in the public meeting should contact Jane Touth of the Ventura Fish and Wildlife Office at (805) 644-1766 as soon as possible. In order to allow sufficient time to process requests, please call no later than 1 week before the public meeting. Information regarding this proposed action is available in alternative formats upon request.

Background

Section 9 of the Endangered Species Act, as amended (Act) (16 U.S.C. 1531 et seq.) and Federal regulations prohibit the “take” of a fish or wildlife species listed as endangered or threatened. Under the Act, the following activities are defined as take: harass, harm, pursue, hunt, shoot, wound, kill, trap, capture or collect listed animal species, or attempt to engage in such conduct (16 U.S.C. 1538). However, under section 10(a) of the Act, we may issue permits to authorize “incidental take” of listed species. Incidental take is defined by the Act as take that is incidental to, and not the purpose of, carrying out an otherwise lawful activity. Regulations governing permits for threatened and endangered species, respectively, are at 50 CFR 13 and 50 CFR 17.

California Condor

The Tejon Ranchcorp is requesting a permit for incidental take of the California condor on lands included in the Tejon Ranch Condor HCP. The Tejon Ranch Condor HCP includes all lands within the boundaries of the Tejon Ranch that are owned by the Tejon Ranchcorp or its affiliates that lie outside the San Joaquin Valley floor area, and encompass approximately 340 square miles. For the purposes of the Tejon Ranch Condor HCP, the Ranch is divided into three major sections: the Antelope Valley Floor, the Tehachapi Mountain Uplands, and the Tunis and Winters Ridge Area. The Tunis and Winters Ridge Area is the area designated in the Tejon Ranch Condor HCP as the “Condor Study Area.” The Tejon Ranch Condor HCP is designed principally to avoid the take of the California condor, but includes provisions to minimize and mitigate the impacts of any take that may occur.

Activities covered by the proposed Tejon Ranch Condor HCP (Covered Activities) include ranchwide activities, such as livestock grazing and range management, motion picture filming, construction and maintenance of all underground utilities including any oil, gas, water, or other pipelines and fiber optic cables; and recreational activities such as fishing, fishing-related construction, equestrian activities, bicycling events, boating, sailing, swimming, camping, hiking, four-wheel driving, bird watching, and other nature-based activities. Proposed Covered Activities that occur in the Antelope Valley Floor area include construction, maintenance, and operation of highway commercial facilities, general commercial facilities, heavy and light industrial facilities, antennae, high-tension power lines, resorts, indoor and outdoor entertainment and recreational facilities and parks, residential subdivisions, roads, and other infrastructure necessary to these activities. Proposed Covered Activities in the Condor Study Area include ranchwide activities and limited construction activities. Covered Activities that could occur in the Tehachapi Mountain Uplands include the possible future development of a recreational complex uphill of the Old Headquarters area of the Ranch. Low-density, low-profile residential and destination resort development in the Tejon Lake-Beartrap Area of the Ranch would occur in this area as well.

The Tejon Ranch Condor HCP describes how the effects of the Ranch's activities on the California condor will be minimized and mitigated through the implementation of take avoidance, minimization, mitigation, and monitoring measures. Under the proposed HCP, development on the Ranch over the proposed 50-year permit term, will occur in areas that are rarely used by the California condors and the development will be designed to maintain the value of areas used by California condors.

Environmental Impact Statement

The Tejon Ranchcorp and the Service have selected LSA Associates, Inc. to prepare the EIS. The document will be prepared in compliance with the National Environmental Policy Act (42 U.S.C. 4321, et seq.). The LSA Associates, Inc. will prepare the EIS under the supervision of the Service, who is responsible for the scope and content of the document.

The EIS will consider the proposed action, the issuance of a section 10(a)(1)(B) permit under the Act, and a reasonable range of alternatives. A detailed description of the impacts of the proposed action and each alternative will be included in the EIS. Several alternatives will be considered and analyzed, representing varying levels of conservation, impacts, and permit area configurations. A No Action alternative will be included in the analysis of the alternatives considered. The No Action alternative means that the Service would not issue a section 10(a)(1)(B) permit.

The EIS will also identify potentially significant direct, indirect, and cumulative impacts on biological resources, land use, air quality, water quality, water resources, economics, and other environmental issues that could occur with the implementation of the proposed actions and alternatives. For all potentially significant impacts, the EIS will identify avoidance, minimization, and mitigation measures to reduce these impacts, where feasible, to a level below significance.

Review of the EIS will be conducted in accordance with the requirements of the NEPA Council on the Environmental Quality Regulations (40 CFR 1500-1508), the Administrative Procedures Act, other applicable regulations, and the Service's procedures for compliance with those regulations. This notice is being furnished in accordance with 40 CFR 1501.7 of NEPA to obtain suggestions and information from other agencies and the public on the scope of issues and alternatives to be addressed in the EIS. The primary purpose of the scoping process is to identify important issues raised by the public, related to the proposed action. Written comments from interested parties are welcome to ensure that the full range of issues related to the permit request is identified. While written comments are encouraged, we will accept both written and oral comments at the public meetings. In addition, you may submit written comments by mail, e-mail, or facsimile transmission (see ADDRESSES). All comments received, including names and addresses, will become part of the official administrative record and may be made available to the public.

Dated: June 18, 2004.
Paul Henson,
Acting Deputy Manager, California/Nevada Operations Office, U.S. Fish and Wildlife Service.

[FR Doc. 04-14314 Filed 6-24-04; 8:45 am]

BILLING CODE 4310-55-P